DEPARTMENT OF LABOR

Employment and Training Administration

[TA-W-38,766]

SPEC Cast, Dyersville, IA; Notice of Termination of Investigation

Pursuant to Section 221 of the Trade Act of 1974, an investigation was initiated on March 5, 2001, in response to a worker petition which was filed on behalf of workers at Spec Cast, Dyersville, Iowa.

An active certification covering the petitioning group of workers at the subject firm remains in effect (TA-W-38,714). Consequently, further investigation in this case would serve no purpose, and the investigation has been terminated.

Signed in Washington, DC this 16th day of May, 2001.
Linda G. Poole,
Certifying Officer, Division of Trade Adjustment Assistance.

[FR Doc. 01-13222 Filed 5-24-01; 8:45 am]

BILLING CODE 4510-30-M